DEPARTMENT OF HEALTH AND HUMAN SERVICES

Centers for Disease Control and Prevention

Disease, Disability, and Injury Prevention and Control Special Emphasis Panels (SEP): Centers of Excellence Public Health Informatics, Program Announcement (PA) #CD 05 109

In accordance with Section 10(a)(2) of the Federal Advisory Committee Act (Pub. L. 92-463), the Centers for Disease Control and Prevention (CDC) announces the following meeting:

Name: Disease, Disability, and Injury Prevention and Control Special Emphasis Panel (SEP): Centers of Excellence Public Health Informatics, Program Announcement (PA) #CD 05 109.

Times and Dates: 7:30 p.m.-10:30 p.m., August 10, 2005 (Closed) 8:30 a.m.-5:30 p.m., August 11, 2005 (Closed).

Place: Renaissance Concourse Hotel, One Hartsfield Centre Parkway, Atlanta, GA 30354, Telephone Number (404) 209-9999.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to: Centers of Excellence Public Health Informatics, Program Announcement (PA) #CD 05 109.

Contact Person for More Information: George R. Bockosh, Engineer, National Institute for Occupational Safety and Health, CDC, National Personal Protective Technology Laboratory, 626 Cochrans Mill Road, Mailstop P05, Pittsburgh, PA 15236, telephone (412) 386-6465.

The Director, Management Analysis and Services Office, has been delegated the authority to sign Federal Register notices pertaining to announcements of meetings and other committee management activities, for both CDC and the Agency for Toxic Substances and Disease Registry.

Dated: July 1, 2005.
Alvin Hall,
Director, Management Analysis and Services Office, Centers for Disease Control and Prevention.

[FR Doc. 05-13614 Filed 7-11-05; 8:45 am]

BILLING CODE 4163-18-P